NEIGHBORHOOD REINVESTMENT CORPORATION

Sunshine Act Meetings

TIME AND DATE: 2:00 p.m., Thursday, April 4, 2024.

PLACE: 1255 Union Street NE, Suite 500, Washington, DC 20002.

STATUS: Parts of this meeting will be open to the public. The rest of the meeting will be closed to the public.

MATTERS TO BE CONSIDERED: Regular Board of Directors meeting.

The General Counsel of the Corporation has certified that in her opinion, one or more of the exemptions set forth in the Government in the Sunshine Act, 5 U.S.C. 552b(c)(2) and (4) permit closure of the following portion(s) of this meeting:

• Executive (Closed) Session

Agenda

I. Call to Order

II. Discussion Item: FY2023 External Audit Discussion with BDO Auditors

III. Sunshine Act Approval of Executive (Closed) Session

IV. Executive Session: BDO Auditors

V. Executive Session: Special Topic

VI. Executive Session: Report from CEO

VII. Executive Session: Report from CFO

VIII. Executive Session: Report from General Counsel

IX. Executive Session: Report from CIO

X. Action Item: Approval of Meeting Minutes—February 15 Regular Board Meeting

XI. Action Item: FY2023 External Audit

XII. Discussion Item: March 26 Audit Committee Report

XIII. Discussion Item: Capital Corporations Update and Grant Request for June

XIV. Discussion Item: Academic Partner for Achieving Excellence Program

XV. Discussion Item: Office Lease Expirations (Kansas City, Denver, and Boston)

XVI. Discussion Item: IT Support Contract—Additional Service Needed

XVII. Management Program Background and Updates

Other Reports

a. 2024 Board Calendar

b. 2024 Board Agenda Planner

c. CFO Report

i. Financials (through 1/31/24)

ii. Single Invoice Approvals $100K and over

iii. Vendor Payments $350K and over

iv. Exceptions

d. Programs Dashboard

e. Housing Stability Counseling Program (HSCP)

f. Strategic Plan Scorecard—FY2024 Q1

Portions Open to the Public: Everything except the Executive (Closed) Session.

Portions Closed to the Public: Executive (Closed) Session.

CONTACT PERSON FOR MORE INFORMATION: Jenna Sylvester, Paralegal, (202) 568-2560; jsylvester@nw.org.

Jenna Sylvester,
Paralegal.

[FR Doc. 2024-06712 Filed 3-26-24; 11:15 am]

BILLING CODE 7570-01-P